DEPARTMENT OF AGRICULTURE

Forest Service

Tuolumne County Resource Advisory Committee

AGENCY: Forest Service, USDA.

ACTION: Notice of meeting.

SUMMARY: The Tuolumne County Resource Advisory Committee will meet on October 28, 2002, at the City of Sonora Fire Department, in Sonora, California. The purpose of the meeting is to review subcommittee recommendations on how to improve funding and administrative procedures for project proposals.

DATES: The meeting will be held October 28, 2002, from 12 p.m. to 3 p.m.

ADDRESSES: The meeting will be held at the City of Sonora Fire Department located at 201 South Shepherd Street, in Sonora, California (CA 95370).

FOR FURTHER INFORMATION CONTACT: Pat Kaunert, Committee Coordinator, USDA, Stanislaus National Forest, 19777 Greenley Road, Sonora CA 95370 (209) 532-3671; EMAIL pkaunert@fs.fed.us.

SUPPLEMENTARY INFORMATION: Agenda items to be covered include: (1) Report out from the Chairperson's presentation to the Tuolumne County Board of Supervisors; (2) Review subcommittee recommendations on how to improve funding and administrative procedures for project proposals; (3) Determine purpose and dates of future meetings. This meeting is open to the public.

Dated: September 30, 2002.
Glenn Gottschall,
Acting Forest Supervisor.

[FR Doc. 02-25376 Filed 10-4-02; 8:45 am]

BILLING CODE 3410-ED-M